DEPARTMENT OF THE INTERIOR

National Park Service

[NPS-WASO-NAGPRA-12964; PPWOCRADN0-PCU00RP14.R50000]

Notice of Inventory Completion: Coachella Valley History Museum, Indio, CA

AGENCY: National Park Service, Interior.

ACTION: Notice.

SUMMARY: The Coachella Valley History Museum has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Coachella Valley History Museum. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Coachella Valley History Museum at the address in this notice by July 8, 2013.

ADDRESSES: Erica M. Ward, Coachella Valley History Museum, 82-616 Miles Avenue, Indio, CA 92201, telephone (760) 342-6651, email erica@cvhm.org.

SUPPLEMENTARY INFORMATION: Notice is here given in accordance with the Native American Graves Protection and Repatriation Act (NAGPRA), 25 U.S.C. 3003, of the completion of an inventory of human remains and associated funerary objects under the control of the Coachella Valley History Museum, Indio, CA. The human remains and associated funerary objects were removed from Salton Sea area, Imperial County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Coachella Valley History Museum professional staff in consultation with representatives of Torres Martinez Desert Cahuilla Indians, California (previously listed as the Torres-Martinez Band of Cahuilla Mission Indians of California).

History and Description of the Remains

Sometime between 1930 and 1945, human remains representing, at minimum, four individuals were removed from the Salton Sea area in Imperial County, CA, by Mr. and Mrs. Homer Sherrod. In 1984, Mr. and Mrs. Homer Sherrod donated a large collection of items, including the human remains and associated funerary objects, to the Coachella Valley Historical Society. No known individuals were identified. The four associated funerary objects include 1 lot of charred animal bones, 1 lot of multiple pieces of charred basketry, 1 lot of multiple pieces of charred beads, and 1 lot of multiple pieces of charred cordage and charred residue.

The human remains and associated funerary items have been determined to be prehistoric. Based on a geographic affiliation and consultation, the Coachella Valley History Museum has determined a cultural affiliation between these human remains and associated funerary objects and the Torres Martinez Desert Cahuilla Indians, California (previously listed as the Torres-Martinez Band of Cahuilla Mission Indians of California).

Determinations Made by the Coachella Valley History Museum

Officials of the Coachella Valley History Museum have determined that:

• Pursuant to 25 U.S.C. 3001(9), the human remains described in this notice represent the physical remains of four individuals of Native American ancestry.

• Pursuant to 25 U.S.C. 3001(3)(A), the four objects described in this notice are reasonably believed to have been placed with or near individual human remains at the time of death or later as part of the death rite or ceremony.

• Pursuant to 25 U.S.C. 3001(2), there is a relationship of shared group identity that can be reasonably traced between the Native American human remains and associated funerary objects and the Torres Martinez Desert Cahuilla Indians, California (previously listed as the Torres-Martinez Band of Cahuilla Mission Indians of California).

Additional Requestors and Disposition

Lineal descendants or representatives of any Indian tribe or Native Hawaiian organization not identified in this notice that wish to request transfer of control of these human remains and associated funerary objects should submit a written request with information in support of the request to Erica M. Ward, Coachella Valley History Museum, 82-616 Miles Avenue, Indio, CA 92201, telephone (760) 342-6651, email erica@cvhm.org, by July 8, 2013. After that date, if no additional requestors have come forward, transfer of control of the human remains and associated funerary objects to Torres Martinez Desert Cahuilla Indians, California (previously listed as the Torres-Martinez Band of Cahuilla Mission Indians of California) may proceed.

The Coachella Valley History Museum is responsible for notifying the Torres Martinez Desert Cahuilla Indians, California (previously listed as the Torres-Martinez Band of Cahuilla Mission Indians of California) that this notice has been published.

Dated: April 30, 2013.
Sherry Hutt,
Manager, National NAGPRA Program.

[FR Doc. 2013-13469 Filed 6-5-13; 8:45 am]

BILLING CODE 4312-50-P